DEPARTMENT OF THE INTERIOR

National Park Service

Chesapeake and Ohio Canal National Historical Park Advisory Commission; Notice of Public Meeting

AGENCY: Department of the Interior, National Park Service, Chesapeake and Ohio Canal National Historical Park Advisory Commission.

ACTION: Notice of meeting.

SUMMARY: Notice is hereby given that a meeting of the Chesapeake and Ohio Canal National Historical Park Advisory Commission (the Commission) will be held on Friday, January 21, 2005, at park headquarters, 1850 Dual Highway, Hagerstown, Maryland. The meeting will begin at 10 a.m.

Items on the agenda include planning initiatives, construction and development projects, and park operational issues.

The meeting will be open to the public. Any person may file with the Commission a written statement concerning the matters to be discussed. Persons who wish to file a written statement or testify at the meeting or who want further information concerning the meeting may contact Superintendent Kevin Brandt at (301) 714-2201.

DATES: January 21, 2005, at 10 a.m.

ADDRESSES: 1850 Dual Highway, Hagerstown, Maryland 21740.

FOR FURTHER INFORMATION CONTACT: Superintendent Kevin Brandt, (301) 714-2201.

SUPPLEMENTARY INFORMATION: The Commission was established by Public Law 91-664 to meet and consult with the Secretary of the Interior on general policies and specific matters related to the administration and development of the Chesapeake and Ohio Canal National Historical Park.

Members of the Commission are: Mrs. Sheila Rabb Weidenfeld, Chairman, Mr. Charles J. Weir, Mr. Barry A. Passett, Mr. Terry W. Hepburn, Ms. JoAnn M. Spevacek, Mrs. Mary E. Woodward, Mrs. Donna Printz, Mrs. Ferial S. Bishop, Ms. Nancy C. Long, Mrs. Jo Reynolds, Dr. James H. Gilford, Brother James Kirkpatrick.

Dated: November 23, 2004.
Kevin D. Brandt,
Superintendent, Chesapeake and Ohio Canal National Historical Park.

[FR Doc. 04-28291 Filed 12-27-04; 8:45 am]

BILLING CODE 4310-52-M